DEPARTMENT OF THE INTERIOR

National Park Service

[NPS-WASO-NRNHL-DTS#-28651; PPWOCRADI0, PCU00RP14.R50000]

National Register of Historic Places; Notification of Pending Nominations and Related Actions

AGENCY: National Park Service, Interior.

ACTION: Notice.

SUMMARY: The National Park Service is soliciting comments on the significance of properties nominated before August 3, 2019, for listing or related actions in the National Register of Historic Places.

DATES: Comments should be submitted by September 12, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before August 3, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

COLORADO

Boulder County

Barker, Hannah, House, 800 Arapahoe Ave., Boulder, SG100004376

MICHIGAN

Kent County

Saint Joseph Seminary, 600 Burton St. SE, Grand Rapids, SG100004384

Wayne County

Church of the Transfiguration Historic District, 5830 Simon K, Detroit, SG100004383

Reeber Building, 3363 Michigan Ave., Detroit, SG100004385

Grosfield Building, 3365 Michigan Ave., Detroit, SG100004386

TEXAS

Dallas County

Bella Villa Apartments, 5506 Miller Ave., Dallas, SG100004371

Gillespie County

Feller-Barsch Homestead, 614 Ellen Lane, Fredericksburg, SG100004372

Harris County

St. Paul's Methodist Episcopal Church, 5501 Main St., Houston, SG100004373

McLennan County

St. James Methodist Episcopal Church, 600 South Second St., Waco, SG100004374

Travis County

Roberts Clinic, 1174 San Bernard St., Austin, SG100004375

WEST VIRGINIA

Marshall County

Prabhupada's Palace of Gold, 3759 McCreary's Ridge Rd., Moundsville vicinity, BC100004380

WISCONSIN

Sheboygan County

MONTGOMERY shipwreck (schooner), In Lake Michigan, 0.45 miles east of Whistling Straights Golf Course, Mosel, SG100004377

Wood County

Johnson, Nels and Nellie, House, 850 1st Ave. S, Wisconsin Rapids, SG100004378

A request for removal has been made for the following resource:

TEXAS

Travis County

Conner, Dr. Beadie E. and Willie R., House and Park, 3111 E. 13th St., Austin, OT97001110

Additional documentation has been received for the following resource:

PENNSYLVANIA

Lancaster County

Lancaster City Historic District, Roughly bounded by Liberty St., Broad St., Greenwood Ave., Race Ave., Lancaster, AD01000956

Nomination submitted by Federal Preservation Officer:

The State Historic Preservation Officer reviewed the following nomination and responded to the Federal Preservation Officer within 45 days of receipt of the nomination and provided comments for the property in the National Register of Historic Places.

VIRGIN ISLANDS

St. Croix District

Hams Bluff Light, Crest of Hams Bluff, 1400 feet east of N end of Hams Bluff Rd., Frederiksted, SG100004382

Authority: Section 60.13 of 36 CFR part 60.

Dated: August 6, 2019.
Julie H. Ernstein,
Supervisory Archeologist, National Register of Historic Places/National Historic Landmarks Program.

[FR Doc. 2019-18473 Filed 8-27-19; 8:45 am]

BILLING CODE 4312-52-P